DEPARTMENT OF TRANSPORTATION

Federal Aviation Administration

[Docket No. FAA-2006-25709, Notice No. 93-87; Docket No. FAA-2008-0517, Notice No. 08-05]

Congestion Management Rules for John F. Kennedy International Airport, Newark Liberty International Airport, and LaGuardia Airport

AGENCY: Federal Aviation Administration, DOT.

ACTION: Notice of Limited Slot Allocation demonstration.

SUMMARY: This notice announces a meeting to hold a demonstration of the allocation method that the Federal Aviation Administration will use to allocate limited slots for its congestion management rules for John F. Kennedy International Airport, Newark Liberty International Airport, and LaGuardia Airport (Final Congestion Rules). [Docket No. FAA-2008-0517, Notice No. 08-05 and Docket No. FAA-2006-25709, Notice No. 93-87].

DATES: The Limited Slot Allocation demonstration is scheduled for December 04, 2008, from 1 p.m. to 4 p.m., Eastern Time.

ADDRESSES: The demonstration will be held in the FAA headquarters, 800 Independence Avenue, SW., Washington, DC, in the FAA auditorium.

FOR FURTHER INFORMATION, TO RSVP OR TO CONTACT THE AGENCY REGARDING THE MEETING: Molly Smith, Office of Aviation Policy & Plans, Federal Aviation Administration, 800 Independence Ave., SW., Washington, DC 20591; Phone 202-267-3274; Fax: (202) 267-3278; E-mail: Molly.w.Smith@faa.gov. Please RSVP by November 26, 2008.

SUPPLEMENTARY INFORMATION: As discussed in the Final Congestion Rules all operators with more than 20 slots at the affected airports will have a percentage of slots designated as Limited Slots, which will expire prior to the expiration of the Final Congestion Rules. Limited Slot leases will expire over the first five years of the Final Congestion Rules. The number of years of lease duration for Limited Slots would be distributed in a manner that fairly distributes the relative length of lease durations among carriers in proportion to their initial holdings. The Final Congestion Rules designate that carriers identify one-half of their limited slots by hour of the day; the FAA will then choose the remaining 50 percent to fairly distribute the total across the day. Thereafter, the slot lives for all limited slots would be assigned by FAA.

The Limited Slot Allocation Demonstration is open to the public although reservations are required by November 26, 2008. Seating at the meeting is limited so priority will be given to the Port Authority of New York and New Jersey and the carriers operating at the affected airports.

Persons with a disability requiring special accommodations, such as an interpreter for the hearing impaired, should contact the FAA contact noted above at least ten (10) calendar days prior to the meeting.

Robert Robeson,
Manager, Systems & Policy Analysis Division.

[FR Doc. E8-27461 Filed 11-18-08; 8:45 am]

BILLING CODE 4910-13-P